DEPARTMENT OF ENERGY

Federal Energy Regulatory Commission

Combined Notice of Filings

Take notice that the Commission has received the following Natural Gas Pipeline Rate and Refund Report filings:

Filings Instituting Proceedings

Docket Numbers: RP13-579-000.

Applicants: National Fuel Gas Supply Corporation.

Description: Fuel Tracker (04/01/13) to be effective 4/1/2013.

Filed Date: 2/22/13.

Accession Number: 20130222-5095.

Comments Due: 5 p.m. ET 3/6/13.

Docket Numbers: RP13-580-000.

Applicants: National Fuel Gas Supply Corporation.

Description: Market Pooling Points (Feb 2013) to be effective 12/31/1998.

Filed Date: 2/22/13.

Accession Number: 20130222-5105.

Comments Due: 5 p.m. ET 3/6/13.

Docket Numbers: RP13-581-000.

Applicants: Guardian Pipeline, L.L.C.

Description: Rate Schedule OSS and Rate Schedule LBS Update to be effective 4/1/2013.

Filed Date: 2/25/13.

Accession Number: 20130225-5087.

Comments Due: 5 p.m. ET 3/11/13.

Docket Numbers: RP13-582-000.

Applicants: Guardian Pipeline, L.L.C.

Description: Negotiated Rate Agreements—Wisconsin Public Service Corp to be effective 4/1/2013.

Filed Date: 2/25/13.

Accession Number: 20130225-5089.

Comments Due: 5 p.m. ET 3/11/13.

Docket Numbers: RP13-583-000.

Applicants: Petal Gas Storage, L.L.C.

Description: Compliance Filing in CP12-464-000—Hattiesburg Roll-In to be effective 3/28/2013.

Filed Date: 2/26/13.

Accession Number: 20130226-5035.

Comments Due: 5 p.m. ET 3/11/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: February 26, 2013.
Nathaniel J. Davis, Sr.,
Deputy Secretary.

[FR Doc. 2013-04924 Filed 3-4-13; 8:45 am]

BILLING CODE 6717-01-P